SMALL BUSINESS ADMINISTRATION

[Disaster Declaration #11643 and #11644]

Kentucky Disaster Number KY-00019

AGENCY: Small Business Administration.

ACTION: Amendment 1.

SUMMARY: This is an amendment of the Presidential declaration of a major disaster for Public Assistance Only for the Commonwealth of Kentucky (FEMA-1818-DR), dated 02/05/2009.

Incident: Severe Winter Storm and Flooding.

Incident Period: 01/26/2009 through 02/13/2009.

Effective Date: 02/13/2009.

Physical Loan Application Deadline Date: 04/06/2009.

Economic Injury (EIDL) Loan Application Deadline Date: 11/05/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Kentucky, dated 02/05/2009, is hereby amended to establish the incident period for this disaster as beginning 01/26/2009 and continuing through 02/13/2009.

All other information in the original declaration remains unchanged.

(Catalog of Federal Domestic Assistance Numbers 59002 and 59008)

Herbert L. Mitchell,
Associate Administrator for Disaster Assistance.

[FR Doc. E9-4440 Filed 3-2-09; 8:45 am]

BILLING CODE 8025-01-P